DEPARTMENT OF EDUCATION

RIN 1855-ZA07

Promise Neighborhoods Program

Catalog of Federal Domestic Assistance (CFDA) Number: 84.215P.

AGENCY: Office of Innovation and Improvement, Department of Education.

ACTION: Notice of proposed priorities, requirements, definitions, and selection criteria.

SUMMARY: The Secretary of Education (Secretary) proposes priorities, requirements, definitions, and selection criteria under the legislative authority of the Fund for the Improvement of Education Program (FIE), title V, part D, subpart 1, sections 5411 through 5413 of the Elementary and Secondary Education Act of 1965, as amended (ESEA). The Secretary may use one or more of these priorities, requirements, definitions, and selection criteria for Promise Neighborhoods competitions for fiscal year (FY) 2011 and later years.

We take this action to focus Federal assistance on projects that are designed to create a comprehensive continuum of solutions, including education programs and family and community supports, with great schools at the center. The continuum of solutions must be designed to significantly improve the educational and developmental outcomes of children and youth, from birth through college and to a career. We intend that these projects support organizations that focus on serving high-need neighborhoods, have a strategy to build a continuum of solutions, and have the capacity to achieve results.

DATES: We must receive your comments on or before April 11, 2011.

ADDRESSES: Address all comments about this notice to Jill Staton, U.S. Department of Education, 400 Maryland Avenue, SW., Room 4W245, Washington, DC 20202-5970.

If you prefer to send your comments by e-mail, use the following address: pn2011comments@ed.gov. You must include the term “PN—Comments on FY 2011 Proposed Priority” in the subject line of your electronic message.

FOR FURTHER INFORMATION CONTACT: Jill Staton. Telephone: (202) 453-6615 or by e-mail: pn2011comments@ed.gov.

If you use a telecommunications device for the deaf (TDD), call the Federal Relay Service, toll free, at 1-800-877-8339.

SUPPLEMENTARY INFORMATION: Invitation to Comment: We invite you to submit comments regarding this notice. To ensure that your comments have maximum effect in developing the notice of final priorities, requirements, definitions, and selection criteria, we urge you to identify clearly the specific proposed priority, requirement, definition, or selection criterion that each comment addresses.

We invite you to assist us in complying with the specific requirements of Executive Order 12866 and its overall requirement of reducing regulatory burden that might result from the proposed priorities, requirements, definitions, and selection criteria. Please let us know of any further ways we could reduce potential costs or increase potential benefits while preserving the effective and efficient administration of the program.

During and after the comment period, you may inspect all public comments about this notice in room 4W335, 400 Maryland Avenue, SW., Washington, DC, between the hours of 8:30 a.m. and 4:00 p.m., Washington, DC time, Monday through Friday of each week except Federal holidays.

Assistance to Individuals With Disabilities in Reviewing the Rulemaking Record: On request we will provide an appropriate accommodation or auxiliary aid to an individual with a disability who needs assistance to review the comments or other documents in the public rulemaking record for this notice. If you want to schedule an appointment for this type of accommodation or auxiliary aid, please contact the person listed under FOR FURTHER INFORMATION CONTACT.

Purpose of Program: The Promise Neighborhoods program is carried out under the legislative authority of the FIE, title V, part D, subpart 1, sections 5411 through 5413 of the ESEA (20 U.S.C. 7243-7243b). FIE supports nationally significant programs to improve the quality of elementary and secondary education at the State and local levels and to help all children meet challenging State academic content and student academic achievement standards.

The purpose of the Promise Neighborhoods program is to significantly improve the educational and developmental outcomes of children and youth in our most distressed communities, and to transform those communities by—

(1) Identifying and increasing the capacity of eligible organizations (as defined in this notice) that are focused on achieving results for children and youth throughout an entire neighborhood;

(2) Building a complete continuum of cradle-through-college-to-career solutions (continuum of solutions) (as defined in this notice) of both educational programs and family and community supports (both as defined in this notice), with great schools at the center;

(3) Integrating programs and breaking down agency “silos” so that solutions are implemented effectively and efficiently across agencies;

(4) Developing the local infrastructure of systems and resources needed to sustain and scale up proven, effective solutions across the broader region beyond the initial neighborhood; and

(5) Learning about the overall impact of the Promise Neighborhoods program and about the relationship between particular strategies in Promise Neighborhoods and student outcomes, including through a rigorous evaluation of the program.

Background: The vision of this program is that all children and youth growing up in Promise Neighborhoods have access to great schools and strong systems of family and community support that will prepare them to attain an excellent education and successfully transition to college and a career.

A Promise Neighborhood is both a place and a strategy. A place eligible to become a Promise Neighborhood is a geographic area that is distressed, often facing inadequate access to high-quality early learning programs and services, struggling schools, low high-school and college graduation rates, high unemployment, crime, and indicators of poor health. These conditions contribute to and intensify the negative outcomes associated with children and youth living in poverty. Children who are from low-income families and grow up in neighborhoods of concentrated poverty face educational and life challenges above and beyond the challenges faced by children who are from low-income families who grow up in neighborhoods without a high concentration of poverty. A Federal evaluation of the reading and mathematics outcomes of elementary students in 71 schools in 18 districts and 7 States found that even when controlling for individual student poverty, there is a significant negative association between school-level poverty and student achievement.¹ The evaluation found that students have lower academic outcomes when a higher percentage of their same-school peers qualify for free and reduced-priced lunch (FRPL) compared to when a lower percentage of their same-school peers qualify for FRPL. The compounding effects of neighborhood poverty continue later in life: Another study found that, for children with similar levels of family income, growing up in a neighborhood where the number of families in poverty was between 20 and 30 percent increased the chance of downward economic mobility—moving down the income ladder relative to their parents—by more than 50 percent compared with children who grew up in neighborhoods with under 10 percent of families in poverty.²

¹ Westat and Policy Studies Associate. The longitudinal evaluation of school change and performance (LESCP) in title I schools. Prepared for the U.S. Department of Education. Available January 2010 online at http://www.policystudies.com/studies/school/lescp_vol2.pdf.

² Sharkey, Patrick. “Neighborhoods and the Black-White Mobility Gap.” Economic Mobility Project: An Initiative of The Pew Charitable Trusts, 2009.

A Promise Neighborhood is also a strategy for addressing the issues in distressed communities. Promise Neighborhoods are led by organizations that work to ensure that all children and youth in the target geographic area have access to the continuum of solutions needed to graduate from high school college- and career-ready. For this reason, each Promise Neighborhood grant must have several core features: Significant need in the neighborhood the grant serves, a strategy to build a continuum of solutions with strong schools at the center, and the capacity to achieve results.

While there are a number of organizations and communities that are working on developing Promise Neighborhoods strategies, these entities are at different stages of readiness to create a Promise Neighborhood. Therefore, we are proposing priorities, requirements, definitions, and selection criteria for both planning and implementation grants. The proposed priorities, requirements, and selection criteria are different for planning grant and implementation grant applicants, while the proposed definitions apply to both groups of applicants.

Planning grants would support eligible organizations that need to develop feasible plans to create a continuum of solutions with the potential to significantly improve the educational and developmental outcomes of children and youth in a neighborhood. These grants would support eligible organizations that demonstrate the need for implementation of a Promise Neighborhood strategy in the geographic areas they are targeting, a sound strategy for developing a feasible plan, and the capacity to develop the plan.

Under proposed Absolute Priority 1 for planning grants, Promise Neighborhoods planning grantees would undertake the following activities during the planning year:

(1) Conduct a comprehensive needs assessment and segmentation analysis (as defined in this notice) of children and youth in the neighborhood.

(2) Develop a plan to deliver a continuum of solutions with the potential to drive results. This includes building community support for and involvement in the development of the plan.

(3) Establish effective partnerships both to provide solutions along the continuum and to commit resources to sustain and scale up what works.

(4) Plan, build, adapt, or expand a longitudinal data system that will provide information that the grantee will use for learning, continuous improvement, and accountability.

(5) Participate in a community of practice (as defined in this notice).

Implementation grants would support eligible organizations in carrying out their plans to create a continuum of solutions that will significantly improve the educational and developmental outcomes of children and youth in the target neighborhood. These grants would aid eligible organizations that have developed a plan that demonstrates the need for implementation of a Promise Neighborhood strategy in the geographic area they are targeting, a sound strategy, and the capacity to implement the plan. Specifically, grantees would use implementation grant funds to develop the administrative capacity necessary to successfully implement a continuum of solutions, such as managing partnerships, integrating multiple funding sources, and supporting the data system. The majority of resources to provide solutions within the continuum of solutions would come from existing public and private funding sources that are integrated and aligned with the Promise Neighborhoods strategy.

Under proposed Absolute Priority 1 for implementation grants, Promise Neighborhoods implementation grantees would undertake the following activities during the implementation years:

(1) Implement a continuum of solutions that addresses neighborhood challenges, as identified in a needs assessment and segmentation analysis, and that will improve results for children and youth in the neighborhood.

(2) Continue to build and strengthen partnerships that will provide solutions along the continuum of solutions and that will commit resources to sustain and scale up what works.

(3) Collect data on indicators at least annually, and use and improve a data system for learning, continuous improvement, and accountability.

(4) Demonstrate progress on goals for improving systems, such as by making changes in policies and organizations, and by leveraging resources to sustain and scale up what works.

(5) Participate in a community of practice.

The intent of these priorities is to ensure that program funds are used by organizations with the capacity to achieve a core set of results for children and youth, improve systems to support achievement of the results, and leverage these and other resources to sustain and scale up what works. We are also proposing definitions that would clarify some of the terms used in the priorities and selection criteria, and selection criteria that would be used by peer reviewers to evaluate (a) The need in a neighborhood that would be served through a proposed project, (b) an organization's strategy to build a continuum of solutions, and (c) an organization's capacity to do the work effectively and efficiently. We are interested in receiving comments about the proposed priorities, definitions, and selection criteria. In particular, we are interested in whether the proposed indicators of need (as defined in this notice) in Absolute Priority 1 and in the selection criteria are the most appropriate indicators for ensuring that grantees serve neighborhoods with significant educational and family and community support needs. We also are interested in your comments about how to ensure that grantees implement strategies that address the needs in the targeted neighborhood; implement solutions that are based on the best available evidence; drive results for children and youth; and improve broader systems in the city and region to support the results. Finally, we are interested in your comments about how to ensure that projects include a management plan that will build an organization's capacity to use data, leverage resources, break down agency “silos,” and create a local infrastructure to sustain and scale up the project beyond the initial neighborhood.

Consistent with the approach of the Promise Neighborhoods program, we believe that it is important for communities to develop a comprehensive neighborhood revitalization strategy that addresses neighborhood assets (as defined in this notice) that are essential to transforming distressed neighborhoods into healthy and vibrant communities of opportunity. Although not a proposed requirement for planning or implementation applicants, we believe that a Promise Neighborhood will be most successful when it is part of, and contributing to, an area's broader neighborhood revitalization strategy. We believe that only through the development of such comprehensive neighborhood revitalization plans that embrace the coordinated use of programs and resources in order to effectively address the interrelated needs within a community will the broader vision of neighborhood transformation occur.

Because a diverse group of communities could benefit from the Promise Neighborhoods program, the Secretary proposes an absolute priority for applications that propose to serve one or more rural communities only (as defined in this notice) and an absolute priority for applications that propose to serve one or more Indian tribes (as defined in this notice). Child poverty rates in rural areas are higher than in urban areas,³ and more than one-fifth of the Nation's nearly 2,000 “dropout factories,” in which the graduation rate is less than 60 percent, are located in rural areas.⁴ Compared to White students, American Indian students have lower academic outcomes and higher poverty rates.⁵ Moreover, American Indian and Alaska Native students have a graduation rate of less than 50 percent nationally.⁶

³ American Community Survey, 2006.

⁴ Balfanz, Robert, Letgers, N. Locating the Dropout Crisis: Which High Schools Produce the Nation's Dropouts? Johns Hopkins University, 2004.

⁵ Institute for Education Sciences. Status and Trends in the Education of American Indians and Alaska Natives, 2008.

⁶ The Civil Rights Project. The Dropout/Graduation Crisis Among American Indian and Alaska Native Students: Failure to Respond Places the Future of Native Peoples at Risk, 2010.

The Secretary also recognizes that a broad set of solutions is required to improve academic and developmental outcomes for children and youth and to transform communities. For that reason, the Secretary proposes priorities for applicants that propose to enhance, expand, or coordinate comprehensive and high-quality local early learning networks, include strategies to increase internet connectivity, improve access to the arts and humanities, or increase the availability of quality affordable housing as part of a strategy that is integrated with neighborhood transformation efforts. In recognition of the important role that adults play in the educational development of children, the Secretary proposes to include, in the FY 2011 competition, a priority for proposals that include a focus on family engagement in learning through adult education.

Finally, the Department of Justice (DOJ) is interested in reviewing the applications of Promise Neighborhoods implementation grantees that address public safety concerns through strategies that include prevention, intervention, enforcement, and reentry of offenders back into communities upon release from prison and jail. Further, subject to the availability of FY 2011 funds, DOJ intends to provide some Promise Neighborhoods implementation grantees with additional resources from the Byrne Criminal Justice Innovation program, to pursue their public safety strategies. We anticipate that applicants for a Promise Neighborhoods implementation grant that are also interested in being considered for funding by DOJ will be required to complete application materials for the Byrne Criminal Justice Innovation program. Additional details regarding the application process and requirements for the Byrne Criminal Justice Innovation program will be provided in the Promise Neighborhoods notice inviting applications.

Proposed Priorities

Types of Priorities: The Secretary proposes priorities for Promise Neighborhoods planning and implementation grants. The Department may choose to use one or more of these priorities in any year in which we hold a competition for the Promise Neighborhoods program. We propose to require that all applicants for planning and implementation grants indicate in their application whether they are applying under Absolute Priority 1, Absolute Priority 2, or Absolute Priority 3. An applicant that applies under Absolute Priority 2 but is not eligible for funding under Absolute Priority 2, or applies under Absolute Priority 3 but is not eligible for funding under Absolute Priority 3, would be considered for funding under Absolute Priority 1.

If one or more of proposed Planning Priorities 4 through 8 or proposed Implementation Priorities 4 through 8 are included in a notice inviting applications, the priority or priorities that are included in the notice would be designated as absolute, competitive preference, or invitational priorities in that notice for the purposes of the competition for which the notice is inviting applications. We may choose, in the notice of final priorities, requirements, definitions, and selection criteria, to include the substance of these priorities in the selection criteria.

Under an absolute priority, as specified by 34 CFR 75.105(c)(3), we would consider only applications that meet the priority. Under a competitive preference priority, we would give competitive preference to an application by (1) awarding additional points, depending on how well the application meets the priority (34 CFR 75.105(c)(2)(i)); or (2) selecting an application that meets the priority over an application of comparable merit that does not meet the priority (34 CFR 75.105(c)(2)(ii)). With an invitational priority, we would signal our interest in receiving applications that meet the priority; however, consistent with 34 CFR 75.105(c)(1), we would not give an application that meets an invitational priority preference over other applications.

For purposes of notices inviting applications, we are considering whether to limit the total number of competitive preference priority points awarded to an applicant in a grant competition or whether to limit the total number of competitive preference priorities we will review and score in a grant competition. We invite comments on these issues to ensure that we are considering a wide variety of perspectives in determining our approach.

Proposed Planning Grant Priorities

Proposed Planning Grant Priority 1 (Absolute): Proposal To Develop a Promise Neighborhood Plan

We propose establishing a priority for an applicant to submit a proposal for how it will plan to create a Promise Neighborhood. This proposal must describe the need in the neighborhood, a strategy to build a continuum of solutions, and the applicant's capacity to achieve results. Specifically, an applicant must—

(1) Describe the geographically defined area to be served and the level of distress in that area based on indicators of need and other relevant indicators. Applicants may propose to serve multiple, non-contiguous geographically defined areas. In cases where target areas are not contiguous, the applicant must explain its rationale for including non-contiguous areas;

(2) Describe how it will plan to build a continuum of solutions based on the best available evidence including, where available, strong or moderate evidence (as defined in this notice) designed to significantly improve educational outcomes and to support the healthy development and well-being of children and youth in the neighborhood.⁷ The success of the strategy will be based on the results, measured against the project indicators as defined in this notice and described in Table 1 and Table 2. The strategy must describe how the applicant will determine which solutions within the continuum of solutions to implement, and must include—

⁷ For the purposes of this notice, the Department uses the terms “neighborhood” and “geographic area” interchangeably.

(a) High-quality early learning programs and services designed to improve outcomes across multiple domains of early learning (as defined in this notice) for children from birth through third grade;

(b) Ambitious, rigorous, and comprehensive education reforms that are linked to improved educational outcomes for children and youth in preschool through the 12th grade. Public schools served through the grant may include persistently lowest-achieving schools (as defined in this notice) or low-performing schools (as defined in this notice) that are not also persistently lowest-achieving schools. An applicant may serve an effective school or schools (as defined in this notice) but only if the applicant also serves at least one low-performing school (as defined in this notice) or persistently lowest-achieving school (as defined in this notice). An applicant must identify in its application the public school or schools that it would serve and the current status of reforms in the school or schools, including, if applicable, the type of intervention model being implemented. In cases where an applicant operates a school or partners with a school that does not serve all students in the neighborhood, the applicant must partner with at least one additional school or schools that also serves students in the neighborhood. An applicant proposing to work with a persistently lowest-achieving school must implement one of the four school intervention models (turnaround model, restart model, school closure, or transformation model) described in Appendix C of the Race to the Top notice inviting applications for new awards for FY 2010, 74 FR 59836, 59866 (November 18, 2009).

An applicant proposing to work with a low-performing school must implement ambitious, rigorous, and comprehensive interventions to assist, augment, or replace schools, which may include implementing one of the four school intervention models, or may include another model of sufficient ambition, rigor, and comprehensiveness to significantly improve academic and other outcomes for students. An applicant proposing to work with a low-performing school must use an intervention that addresses the effectiveness of teachers and leaders and the school's use of time and resources, which may include increased learning time (as defined in this notice);

Note regarding school reform strategies: So as not to penalize an applicant from working with a local educational agency (LEA) that has implemented rigorous reform strategies prior to the publication of this notice, an applicant is not required to propose a new reform strategy in place of an existing reform strategy in order to be eligible for a Promise Neighborhoods planning grant. For example, an LEA might have begun to implement improvement activities that meet many, but not all, of the elements of a transformation model of school intervention. In this case, the applicant could propose, as part of its Promise Neighborhood strategy, to work with the LEA as the LEA continues with its reforms;

(c) Programs that prepare students to be college- and career-ready; and

(d) Family and community supports (as defined in this notice).

To the extent feasible and appropriate, the plan to be developed by the applicant must describe how the applicant and its partners will leverage and integrate high-quality programs, related public and private investments, and existing neighborhood assets into the continuum of solutions.

Applicants must also describe how they will identify Federal, State, or local policies, regulations, or other requirements that would impede the applicant in achieving its goals and will report on those impediments to the Department and other relevant agencies.

As part of the description of how they will plan to build a continuum of solutions, applicants must describe how they will participate in, organize, or facilitate, as appropriate, communities of practice (as defined in this notice) for Promise Neighborhoods.

(3) Specify how it will conduct a comprehensive needs assessment and segmentation analysis of children and youth in the neighborhood during the planning grant project period and explain how it will use this needs assessment and segmentation analysis to determine the children with the highest needs and ensure that those children receive the appropriate services from the continuum of solutions. This explanation must include identifying and describing in the application both the educational indicators and the family and community support indicators that the applicant will use in conducting the needs assessment during the planning year. During the planning year, applicants must—

(a) Collect data for the educational indicators listed in Table 1 and use them as both program and project indicators;

(b) Collect data for the family and community support indicators in Table 2 and use them as program indicators; and

(c) Collect data for unique family and community support indicators, developed by the applicant, that align with the goals and objectives of projects and use them as project indicators or use the indicators in Table 2 as project indicators.

Note: Planning grant applicants are not required to propose solutions in their applications; however, they are required to describe how they will identify solutions, including the use of available evidence, during the planning year that will result in improvements on the project indicators.

Table 1—Education Indicators and Results They Are Intended to Measure
Indicator | Result
—# and % of children birth to kindergarten entry who have a place where they usually go, other than an emergency room, when they are sick or in need of advice about their health | Children enter kindergarten ready to succeed in school.
—# and % of three-year-olds and children in kindergarten who demonstrate at the beginning of the program or school year age-appropriate functioning across multiple domains of early learning (as defined in this notice) as determined using developmentally-appropriate early learning measures (as defined in this notice)
—# & % of children, from birth to kindergarten entry, participating in center-based or formal home-based early learning settings or programs, which may include Early Head Start, Head Start, child care, or publicly funded preschool
—# & % of students at or above grade level according to State mathematics and reading or language arts assessments in at least the grades required by the ESEA (3rd through 8th and once in high school) | Students are proficient in core academic subjects.
—Attendance rate of students in 6th, 7th, 8th, and 9th grade | Students successfully transition from middle school grades to high school.
—Graduation rate (as defined in this notice) | Youth graduate from high school.
—# & % of Promise Neighborhood students who graduate with a regular high school diploma, as defined in 34 CFR 200.19(b)(1)(iv), and obtain postsecondary degrees, vocational certificates, or other industry-recognized certifications or credentials without the need for remediation | High school graduates obtain a postsecondary degree, certification, or credential.

Table 2—Family and Community Support Indicators and Results They Are Intended To Measure
Indicator | Result
—# & % of children who participate in at least 60 minutes of moderate to vigorous physical activity daily and consume five or more servings of fruits and vegetables daily; or | Students are healthy.
—possible second indicator, to be determined (TBD) by applicant
—# & % of students who feel safe at school and traveling to and from school, as measured by a school climate needs assessment (as defined in this notice); or | Students feel safe at school and in their community.
—possible second indicator, TBD by applicant.
—Student mobility rate (as defined in this notice); or | Students live in stable communities.
—possible second indicator, TBD by applicant.
—For children six months to kindergarten entry, the # and % of parents or family members who report that they read to their child three or more times a week; | Families and community members support learning in Promise Neighborhood schools.
—For children in kindergarten through the eighth grade, the # and % of parents or family members who report encouraging their child to read books outside of school; and
—For children in the ninth through twelfth grades, the # and % of parents or family members who report talking with their child about the importance of college and career; or
—possible second indicator TBD by applicant.
—# & % of students who have school and home access (and % of the day they have access) to broadband internet (as defined in this notice) and a connected computing device; or | Students have access to 21st century learning tools.
—possible second indicator TBD by applicant

Note: The indicators in Table 1 and Table 2 are not intended to limit an applicant from collecting and using data for additional indicators. Examples of additional indicators are—

(i) The # and % of children who participate in high-quality learning activities during out-of-school hours or in the hours after the traditional school day ends;

(ii) The # and % of children who are suspended or receive discipline referrals during the school year;

(iii) The share of housing stock in the geographically defined area that is rent-protected, publicly assisted, or targeted for redevelopment with local, State, or Federal funds; and

(iv) The # and % of children who are homeless or in foster care and who have an assigned adult advocate.

Note: While the Department believes there are many programmatic benefits of collecting data on every child in the proposed neighborhood, the Department will consider requests to collect data on only a sample of the children in the neighborhood for some indicators so long as the applicant describes in its application how it would ensure the sample would be representative of the children in the neighborhood;

(4) Describe the experience and lessons learned, and describe how the applicant will build the capacity of its management team and project director in all of the following areas:

(a) Working with the neighborhood and its residents, including with the schools described in paragraph (2) of this priority; the LEA in which the schools described in paragraph (2) are located; Federal, State, and local government leaders; and other service providers.

(b) Collecting, analyzing, and using data for decision-making, learning, continuous improvement, and accountability. The applicant must describe—

(i) Its proposal to plan to build, adapt, or expand a longitudinal data system that integrates student-level data from multiple sources in order to measure progress on educational and family and community support indicators for all children in the neighborhood, disaggregated by the subgroups listed in section 1111(b)(3)(C)(xiii) of the ESEA;

(ii) How the applicant will link the longitudinal data system to school-based, LEA, and State data systems; make the data accessible to program partners, researchers, and evaluators while abiding by Federal, State, and other privacy laws and requirements; and manage and maintain the system;

(iii) How the applicant will use rapid-time (as defined in this notice) data both in the planning year and, once the Promise Neighborhood strategy is implemented, for continuous program improvement; and

(iv) How the applicant will document the planning process, including by describing lessons learned and best practices;

(c) Creating formal and informal partnerships, for such purposes as providing solutions along the continuum of solutions and attaining resources to sustain and scale up what works. An applicant, as part of its application, must submit a preliminary memorandum of understanding, signed by each organization or agency with which it would partner in planning the proposed Promise Neighborhood. The preliminary memorandum of understanding must describe—

(i) Each partner's financial and programmatic commitment; and

(ii) How each partner's existing vision, theory of change (as defined in this notice), theory of action (as defined in this notice), and existing activities align with those of the proposed Promise Neighborhood strategy;

(d) The governance structure proposed for the Promise Neighborhood, including how the eligible entity's governing board or advisory board is representative of the geographic area proposed to be served (as defined in this notice), and how residents of the geographic area would have an active role in the organization's decision-making; and

(e) Securing and integrating funding streams from multiple public and private sources from the Federal, State, and local level. Examples of public funds include Federal resources from the U.S. Department of Education, such as the 21st Century Community Learning Centers program and title I of the ESEA, and from other Federal agencies, such as the U.S. Departments of Health and Human Services, Housing and Urban Development, Justice, Labor, and Treasury.

(5) Describe the applicant's commitment to work with the Department and with a national evaluator for Promise Neighborhoods to ensure that data collection and program design are consistent with plans to conduct a rigorous national evaluation of the Promise Neighborhoods program and of specific solutions and strategies pursued by individual grantees. This commitment must include, but need not be limited to—

(a) Ensuring that, through memoranda of understanding with appropriate entities, the national evaluator and the Department have access to relevant program and project data (e.g., administrative data and program and project indicator data), including data on a quarterly basis if requested by the Department;

(b) Developing, in consultation with the national evaluator, an evaluation strategy, including identifying a credible comparison group; and

(c) Developing, in consultation with the national evaluator, a plan for identifying and collecting reliable and valid baseline data for both program participants and a designated comparison group of non-participants.

Proposed Planning Grant Priority 2 (Absolute): Promise Neighborhoods in Rural Communities

We propose establishing a priority for applicants proposing to develop a plan for implementing a Promise Neighborhood strategy that (1) meets all of the requirements in Absolute Priority 1; and (2) proposes to serve one or more rural communities only.

Proposed Planning Grant Priority 3 (Absolute): Promise Neighborhoods in Tribal Communities

We propose establishing a priority for applicants proposing to develop a plan for implementing a Promise Neighborhood strategy that (1) meets all of the requirements in Absolute Priority 1; and (2) proposes to serve one or more Indian tribes (as defined in this notice).

Proposed Planning Grant Priority 4: Comprehensive Local Early Learning Network

We propose a priority for applicants proposing to develop a plan to expand, enhance, or modify an existing network of early learning programs and services to ensure that they are high-quality and comprehensive for children from birth through the third grade. The plan must also ensure that the network establishes a high standard of quality across early learning settings and is designed to improve health, social-emotional, and cognitive outcomes of young children. Distinct from the early learning solutions described in paragraph (2) of Absolute Priority 1, this priority would support proposals to develop plans that coordinate all early learning services and programs in the neighborhood, i.e., school-based early learning programs; district- or State-funded preschool programs; Early Head Start and Head Start; the local child care resource and referral agency, if applicable; Individuals with Disabilities Education Act (IDEA) services and programs; services through private providers; home visiting programs; and family, friend, or neighbor care in the Promise Neighborhood.

The coordinated local early learning network must address, or incorporate ongoing State-level efforts regarding, the major components of high-quality early learning programs and services, such as early learning and development standards, program quality standards, comprehensive assessment systems, workforce and professional development systems, health promotion, family and community engagement, a coordinated data infrastructure, and a method of measuring, monitoring, evaluating, and improving program quality. For example, an applicant might address how the Promise Neighborhoods project will use the State's early learning standards, as applicable, and Head Start Child Development and Early Learning Framework (Framework), as applicable, to define the expectations of what children should know and be able to do before entering kindergarten. The Framework is available on the Office of Head Start's Web site at: http://eclkc.ohs.acf.hhs.gov/hslc/ecdh/eecd/Assessment/Child%20Outcomes/HS_Revised_Child_Outcomes_Framework.pdf. Similarly, an applicant that addresses this priority must discuss, where applicable, how the State's Quality Rating and Improvement System (QRIS), professional development and workforce infrastructure, and other State efforts would be incorporated into the Promise Neighborhood's plan for a comprehensive local early learning network.

The proposal to develop a plan for a high-quality and comprehensive local early learning network must describe the governance structure and how the applicant will use the planning year to plan solutions that address the major components of high-quality early learning programs and services as well as establish goals, strategies, and benchmarks to provide early learning programs and services that result in improved outcomes across multiple domains of early learning (as defined in this notice). An applicant addressing this priority must designate an individual responsible for overseeing and coordinating the early learning initiatives and must include a resume or position description and other supporting documentation to demonstrate that the individual designated, or individual hired to fill that designation, possesses the appropriate State certification, and has experience and expertise in managing and administering high-quality early learning programs, including in coordinating across various high-quality early learning programs and services.

Proposed Planning Grant Priority 5: Quality Internet Connectivity

We propose a priority for applicants proposing to develop plans to ensure that almost all students in the geographic area proposed to be served have broadband internet access (as defined in this notice) at home and at school, the knowledge and skills to use broadband internet access effectively, and a connected computing device to support schoolwork.

Proposed Planning Grant Priority 6: Arts and Humanities

We propose a priority for applicants proposing to develop plans to include opportunities for children and youth to experience and participate actively in the arts and humanities in their community so as to broaden, enrich, and enliven the educational, cultural, and civic experiences available in the neighborhood. Applicants may propose to develop plans for offering these activities in school and in out-of-school settings and at any time during the calendar year.

Proposed Planning Grant Priority 7: Quality Affordable Housing

We propose a priority for applicants proposing to serve geographic areas that were the subject of an affordable housing transformation pursuant to a Choice Neighborhoods or HOPE VI grant awarded by the U.S. Department of Housing and Urban Development during FY 2009 or later years. Applicants eligible for this priority must either (1) have received a Choice Neighborhoods or HOPE VI grant or (2) provide a memorandum of understanding with a recipient of Choice Neighborhoods or HOPE VI grant. The memorandum must indicate a commitment on the part of both grantees to coordinate planning and align resources to the greatest extent practicable.

Proposed Planning Grant Priority 8: Family Engagement in Learning Through Adult Education

We propose a priority for applicants proposing to develop plans that are coordinated with adult education providers serving neighborhood residents, such as those funded through the Adult Education and Family Literacy Act, as amended. Coordinated services may include adult basic and secondary education and programs that provide training and opportunities for family members and other members of the community to support student learning and establish high expectations for student educational achievement. Examples of services and programs include preparation for the General Education Development (GED) test; English literacy, family literacy, and work-based literacy training; or other training that prepares adults for postsecondary education and careers or supports adult engagement in the educational success of children and youth in the neighborhood.

Proposed Implementation Grant Priorities

Proposed Implementation Grant Priority 1 (Absolute): Submission of Promise Neighborhood Plan

We propose establishing a priority for applicants that submit a plan to create a Promise Neighborhood. The plan must describe the need in the neighborhood, a strategy to build a continuum of solutions, and the applicant's capacity to achieve results. Specifically, an applicant must—

(1) Describe the geographically defined area to be served and the level of distress in that area based on indicators of need and other relevant indicators. The statement of need in the neighborhood must be based, in part, on results of a comprehensive needs assessment and segmentation analysis (as defined in this notice). Applicants may propose to serve multiple, non-contiguous geographically defined areas. In cases where target areas are not contiguous, the applicant must explain its rationale for including non-contiguous areas;

(2) Describe the applicant's strategy for building a continuum of solutions that addresses neighborhood challenges as identified in the needs assessment and segmentation analysis. The continuum of solutions must be based on the best available evidence including, where available, strong or moderate evidence (as defined in this notice), and be designed to significantly improve educational outcomes and to support the healthy development and well-being of children and youth in the neighborhood. The success of the strategy will be measured by the results and project indicators as defined in this notice and described in Table 1 and Table 2. The applicant must propose clear and measurable annual goals during the grant period against which improvements will be measured using the indicators. The strategy must—

(a) Identify each solution that the project will implement within the proposed continuum of solutions, and must include—

(i) High-quality early learning programs and services designed to improve outcomes across multiple domains of early learning (as defined in this notice) for children from birth through third grade;

(ii) Ambitious, rigorous, and comprehensive education reforms that are linked to improved educational outcomes for children and youth in preschool through the 12th grade. Public schools served through the grant may include persistently lowest-achieving schools (as defined in this notice) or low-performing schools (as defined in this notice) that are not also persistently lowest-achieving schools. An applicant may serve an effective school or schools (as defined in this notice) but only if the applicant also serves at least one low-performing school (as defined in this notice) or persistently lowest-achieving school (as defined in this notice). An applicant must identify in its application the public school or schools it would serve and describe the current status of reforms in the school or schools, including, if applicable, the type of intervention model being implemented. In cases where an applicant operates a school or partners with a school that does not serve all students in the neighborhood, the applicant must partner with at least one additional school that also serves students in the neighborhood. An applicant proposing to work with a persistently lowest-achieving school must implement one of the four school intervention models (turnaround model, restart model, school closure, or transformation model) described in Appendix C of the Race to the Top notice inviting applications for new awards for FY 2010, 74 FR 59836, 59866 (November 18, 2009).

An applicant proposing to work with a low-performing school must implement ambitious, rigorous, and comprehensive interventions to assist, augment, or replace schools, which may include implementing one of the four school intervention models, or may include another model of sufficient ambition, rigor, and comprehensiveness to significantly improve academic and other outcomes for students. An applicant proposing to work with a low-performing school must use an intervention that addresses the effectiveness of teachers and leaders and the school's use of time and resources, which may include increased learning time (as defined in this notice);

Note regarding school reform strategies: So as not to penalize an applicant from working with an LEA that has implemented rigorous reform strategies prior to the publication of this notice, an applicant is not required to propose a new reform strategy in place of an existing reform strategy in order to be eligible for a Promise Neighborhoods implementation grant. For example, an LEA might have begun to implement improvement activities that meet many, but not all, of the elements of a transformation model of school intervention. In this case, the applicant could propose, as part of its Promise Neighborhood strategy, to work with the LEA as the LEA continues with its reforms;

(iii) Programs that prepare students to be college- and career-ready; and

(iv) Family and community supports (as defined in this notice).

To the extent feasible and appropriate, the plan must describe how the applicant and its partners will leverage and integrate high-quality programs, related public and private investments, and existing neighborhood assets into the continuum of solutions. An application must also include an appendix that summarizes the evidence supporting each proposed solution and describes how the solution is based on the best available evidence, including, where available, strong or moderate evidence (as defined in this notice). In addition, an applicant must describe how the solution will be implemented; the partners that will participate in the implementation of each solution (in any case in which the applicant does not implement the solution directly); the estimated per-child cost, including administrative costs, to implement each solution; the estimated number of children, by age, in the neighborhood who will be served by each solution and how a segmentation analysis was used to target the children and youth to be served; and the source of funds that will be used to pay for each solution. In the description of the estimated number of children to be served, the applicant must include the percentage of all children of the same age group within the neighborhood proposed to be served by each solution.

Applicants must also describe how they will identify Federal, State, or local policies, regulations, or other requirements that would impede the applicant in achieving its goals and will report on those impediments to the Department and other relevant agencies.

As part of the description of their strategy to build a continuum of solutions, applicants must describe how they will participate in, organize, or facilitate, as appropriate, communities of practice for Promise Neighborhoods.

(b) Establish clear, annual goals for evaluating progress in improving systems, such as changes in policies, environments, or organizations that affect children and youth in the neighborhood. Examples of systems change could include a new school district policy to measure the results of family and community support programs, a new funding resource to support the Promise Neighborhoods strategy, or a cross-sector collaboration at the city level to break down municipal agency “silos” and partner with local philanthropic organizations to drive achievement of a set of results; and

(c) Establish clear, annual goals for evaluating progress in leveraging resources, such as the amount of monetary or in-kind investments from public or private organizations to support the Promise Neighborhoods strategy. Examples of leveraging resources are securing new or existing dollars to sustain and scale up what works in the Promise Neighborhood or integrating high-quality programs in the continuum of solutions. Applicants may consider, as part of their plans to scale up their Promise Neighborhood strategy, serving a larger geographic area by partnering with other applicants to the Promise Neighborhoods program from the same city or region;

(3) Explain how it used its needs assessment and segmentation analysis to determine the children with the highest needs and explain how it will ensure that each child in the neighborhood receives the appropriate services from the continuum of solutions. This includes identifying and describing in its application the educational indicators and family and community support indicators that the applicant used to conduct the needs assessment. Whether or not the implementation grant applicant received a Promise Neighborhoods planning grant, the applicant should describe how it—

(a) Collected data for the educational indicators listed in Table 1 and used them as both program and project indicators;

(b) Collected data for the family and community support indicators in Table 2 and used them as program indicators; and

(c) Collected data for unique family and community support indicators, developed by the applicant, that align with the goals and objectives of the project and used them as project indicators or used the indicators in Table 2 as project indicators.

An applicant must also describe how it will collect at least annual data on the indicators in Tables 1 and 2 and report those data to the Department.

Table 1—Education Indicators and Results They Are Intended to Measure
Indicator | Result
—# and % of children birth to kindergarten entry who have a place where they usually go, other than an emergency room, when they are sick or in need of advice about their health | Children enter kindergarten ready to succeed in school.
—# and % of three-year-olds and children in kindergarten who demonstrate at the beginning of the program or school year age-appropriate functioning across multiple domains of early learning (as defined in this notice) as determined using developmentally-appropriate early learning measures (as defined in this notice).
—# & % of children, from birth to kindergarten entry, participating in center-based or formal home-based early learning settings or programs, which may include Early Head Start, Head Start, child care, or publicly funded preschool.
—# & % of students at or above grade level according to State mathematics and reading or language arts assessments in at least the grades required by the ESEA (3rd through 8th and once in high school) | Students are proficient in core academic subjects.
—Attendance rate of students in 6th, 7th, 8th, and 9th grade | Students successfully transition from middle school grades to high school.
—Graduation rate (as defined in this notice) | Youth graduate from high school.
—# & % of Promise Neighborhood students who graduate with a regular high school diploma, as defined in 34 CFR 200.19(b)(1)(iv), and obtain postsecondary degrees, vocational certificates, or other industry-recognized certifications or credentials without the need for remediation | High school graduates obtain a postsecondary degree, certification, or credential.

Table 2—Family and Community Support Indicators and Results They Are Intended To Measure
Indicator | Result
—# & % of children who participate in at least 60 minutes of moderate to vigorous physical activity daily and consume five or more servings of fruits and vegetables daily; or | Students are healthy.
—possible second indicator, to be determined (TBD) by applicant.
—# & % of students who feel safe at school and traveling to and from school, as measured by a school climate needs assessment (as defined in this notice); or | Students feel safe at school and in their community.
—possible second indicator, TBD by applicant.
—Student mobility rate (as defined in this notice); or —possible second indicator, TBD by applicant | Students live in stable communities.
—For children six months to kindergarten entry, the # and % of parents or family members who report that they read to their child three or more times a week; —For children in the kindergarten through eighth grades, the # and % of parents or family members who report encouraging their child to read books outside of school; and | Families and community members support learning in Promise Neighborhood schools.
—For children in the ninth through twelfth grades, the # and % of parents or family members who report talking with their child about the importance of college and career; or
—possible second indicator TBD by applicant.
—# & % of students who have school and home access (and % of the day they have access) to broadband internet (as defined in this notice) and a connected computing device; or | Students have access to 21st century learning tools.
—possible second indicator TBD by applicant.

Note: The indicators in Table 1 and Table 2 are not intended to limit an applicant from collecting and using data for additional indicators. Examples of additional indicators are—

(i) The # and % of children who participate in high-quality learning activities during out-of-school hours or in the hours after the traditional school day ends;

(ii) The # and % of students who are suspended or receive discipline referrals during the year;

(iii) The share of housing stock in the geographically defined area that is rent-protected, publicly assisted, or targeted for redevelopment with local, State, or Federal funds; and

(iv) The # and % of children who are homeless or in foster care and who have an assigned adult advocate.

Note: While the Department believes there are many programmatic benefits of collecting data on every child in the proposed neighborhood, the Department will consider requests to collect data on only a sample of the children in the neighborhood for some indicators so long as the applicant describes in its application how it would ensure the sample would be representative of the children in the neighborhood.

(4) Describe the experience, lessons learned, and a plan to build capacity of the applicant's management team and project director in all of the following areas:

(a) Working with the neighborhood and its residents; the schools described in paragraph (2) of this priority; the LEA in which those schools are located; Federal, State, and local government leaders; and other service providers.

(b) Collecting, analyzing, and using data for decision-making, learning, continuous improvement, and accountability. The applicant must describe—

(i) Its longitudinal data system that integrates student-level data from multiple sources in order to measure progress on educational and family and community support indicators for all children in the neighborhood, disaggregated by the subgroups listed in section 1111(b)(3)(C)(xiii) of the ESEA;

(ii) How the applicant has linked the longitudinal data system to school-based, LEA, and State data systems; made the data accessible to program partners, researchers, and evaluators while abiding by Federal, State, and other privacy laws and requirements; and managed and maintained the system;

(iii) How the applicant has used rapid-time (as defined in this notice) data in prior years and, how it will continue to use those data once the Promise Neighborhood strategy is implemented, for continuous program improvement; and

(iv) How the applicant will document the implementation process, including by describing lessons learned and best practices.

(c) Creating and strengthening formal and informal partnerships, for such purposes as providing solutions along the continuum of solutions and committing resources to sustaining and scaling up what works. Each applicant must submit, as part of its application, a memorandum of understanding, signed by each organization or agency with which it would partner in implementing the proposed Promise Neighborhood. The memorandum of understanding must describe—

(i) Each partner's financial and programmatic commitment; and

(ii) How each partner's existing vision, theory of change (as defined in this notice), theory of action (as defined in this notice), and current activities align with those of the proposed Promise Neighborhood;

(d) The governance structure proposed for the Promise Neighborhood, including how the eligible entity's governing board or advisory board is representative of the geographic area proposed to be served (as defined in this notice), and how residents of the geographic area would have an active role in the organization's decision-making.

(e) Integrating funding streams from multiple public and private sources from the Federal, State, and local level. Examples of public funds include Federal resources from the U.S. Department of Education, such as the 21st Century Community Learning Centers program and title I of the ESEA, and from other Federal agencies, such as the U.S. Departments of Health and Human Services, Housing and Urban Development, Justice, Labor, and Treasury.

(5) Describe the applicant's commitment to work with the Department and with a national evaluator for Promise Neighborhoods to ensure that data collection and program design are consistent with plans to conduct a rigorous national evaluation of the Promise Neighborhoods program and of specific solutions and strategies pursued by individual grantees. This commitment must include, but need not be limited to—

(a) Ensuring that, through memoranda of understanding with appropriate entities, the national evaluator and the Department have access to relevant program and project data sources (e.g., administrative data and program and project indicator data), including data on a quarterly basis if requested by the Department;

(b) Developing, in consultation with the national evaluator, an evaluation strategy, including identifying a credible comparison group (as defined in this notice); and

(c) Developing, in consultation with the national evaluator, a plan for identifying and collecting reliable and valid baseline data for both program participants and a designated comparison group of non-participants.

Proposed Implementation Grant Priority 2 (Absolute): Promise Neighborhoods in Rural Communities

We propose establishing a priority for applicants that propose to implement a Promise Neighborhood strategy that (1) meets all of the requirements in Absolute Priority 1; and (2) serves one or more rural communities only.

Proposed Implementation Grant Priority 3 (Absolute): Promise Neighborhoods in Tribal Communities

We propose establishing a priority for applicants proposing to implement a Promise Neighborhood strategy that (1) meets all of the requirements in Absolute Priority 1; and (2) serves one or more Indian tribes (as defined in this notice).

Proposed Implementation Grant Priority 4: Comprehensive Local Early Learning Network

We propose a priority for plans that propose to expand, enhance, or modify an existing network of early learning programs and services to ensure that they are high-quality and comprehensive for children from birth through the third grade. The plan must also ensure that the network establishes a high standard of quality across early learning settings and is designed to improve health, social-emotional, and cognitive outcomes of young children. Distinct from the early learning solutions described in paragraph (2) of Absolute Priority 1, this priority would support implementation plans that coordinate all early learning services and programs in the neighborhood, i.e., school-based early learning programs; district- or State-funded preschool programs; Early Head Start and Head Start; the local child care resource and referral agency, if applicable; IDEA services and programs; services through private providers; home visiting programs; and family, friend, or neighbor care in the Promise Neighborhood.

The coordinated local early learning network must address, or incorporate ongoing State-level efforts regarding, the major components of high-quality early learning programs and services, such as early learning and development standards, program quality standards, comprehensive assessment systems, workforce and professional development systems, health promotion, family and community engagement, a coordinated data infrastructure, and a method of measuring, monitoring, evaluating, and improving program quality. For example, an applicant might address how the Promise Neighborhoods project will use the State's early learning standards, as applicable, and Head Start Child Development and Early Learning Framework (Framework), as applicable, to define the expectations of what children should know and be able to do before entering kindergarten. The Framework is available on the Office of Head Start's Web site at: http://eclkc.ohs.acf.hhs.gov/hslc/ecdh/eecd/Assessment/Child%20Outcomes/HS_Revised_Child_Outcomes_Framework.pdf. Similarly, an applicant that addresses this priority must discuss, where applicable, how the State's Quality Rating and Improvement System (QRIS), professional development and workforce infrastructure, and other State efforts would be incorporated into the Promise Neighborhood's plan for a comprehensive local early learning network.

The implementation plan for a high-quality and comprehensive local early learning network must describe the governance structure and the major components of high-quality early learning programs and services as well as include goals, strategies, and benchmarks to provide early learning programs and services that result in improvements across multiple domains of early learning. The plan must result from a needs assessment and segmentation analysis (as defined in this notice) and should reflect input from a broad range of stakeholders. An application addressing this priority must designate an individual responsible for overseeing and coordinating the early learning initiatives and must include a resume or position description and other supporting documentation to demonstrate that the individual designated, or individual hired to fill that designation, possesses the appropriate State certification, and has experience and expertise in managing and administering high-quality early learning programs, including in coordinating across various early learning programs and services.

Proposed Implementation Grant Priority 5: Quality Internet Connectivity

We propose a priority for applicants with plans to ensure that almost all students in the geographic area proposed to be served have broadband internet access (as defined in this notice) at home and at school, the knowledge and skills to use broadband internet access effectively, and a connected computing device to support schoolwork.

Proposed Implementation Grant Priority 6: Arts and Humanities

We propose a priority for applicants with plans to include opportunities for children and youth to experience and participate actively in the arts and humanities in their community so as to broaden, enrich, and enliven the educational, cultural, and civic experiences available in the neighborhood. Applicants may include plans for offering these activities in school and out-of-school settings and at any time during the calendar year.

Proposed Implementation Grant Priority 7: Quality Affordable Housing

We propose a priority for applicants that propose to serve geographic areas that were the subject of an affordable housing transformation pursuant to a Choice Neighborhoods or HOPE VI grant awarded by the U.S. Department of Housing and Urban Development during FY 2009 or later years. Applicants eligible for this priority must either (1) have received a Choice Neighborhoods or HOPE VI grant or (2) provide a memorandum of understanding with a recipient of a Choice Neighborhoods or HOPE VI grant. The memorandum must indicate a commitment on the part of both grantees to coordinate implementation and align resources to the greatest extent practicable.

Proposed Implementation Grant Priority 8: Family Engagement in Learning Through Adult Education

We propose a priority for applicants with plans that are coordinated with adult education providers serving neighborhood residents, such as those funded through the Adult Education and Family Literacy Act, as amended. Coordinated services may include adult basic and secondary education and programs that provide training and opportunities for family members and other members of the community to support student learning and establish high expectations for student educational achievement. Examples of services and programs include preparation for the General Education Development (GED) test; English literacy, family literacy, and work-based literacy training; or other training that prepares adults for postsecondary education and careers, or supports adult engagement in the educational success of children and youth in the neighborhood.

Optional Supplemental Funding Opportunity

The U.S. Department of Justice (DOJ) intends to provide an optional, supplemental funding opportunity for Promise Neighborhoods implementation grantees with plans that propose to analyze and resolve public safety concerns associated with violence, gangs, and illegal drugs utilizing strategies that include prevention, intervention, enforcement, and reentry of offenders back into communities upon release from prison and jail. Under this opportunity, DOJ, through an interagency agreement with the Department of Education, would provide additional funds to some Promise Neighborhoods implementation grantees. Specifically, DOJ would consider supporting Promise Neighborhoods grantees with plans that align with local leadership in implementing and sustaining innovative solutions that incorporate evidence and research into local program and policy decisions to address and reduce persistent crime. Applicants with plans that address this opportunity would submit a supplemental DOJ Byrne Criminal Justice Innovation application as part of its Department of Education Promise Neighborhoods application.

Proposed Requirements

The Department proposes the following eligibility requirements for the Promise Neighborhoods program. We may apply one or more of these requirements in any year in which we conduct a competition for this program.

1. Eligible Applicants: To be eligible for a grant under this competition, an applicant must be an eligible organization (as defined in this notice). For purposes of Absolute Priority 3, an eligible applicant is an eligible organization that partners with an Indian tribe or is an Indian tribe that meets the definition of an eligible organization.

2. Cost-Sharing or Matching:

(a) Planning grants. To be eligible for a planning grant under this competition, an applicant must demonstrate that it has established a commitment from one or more entities in the public or private sector, which may include Federal, State, and local public agencies, philanthropic organizations, private businesses, or individuals, to provide matching funds for the planning process. An applicant for a planning grant must obtain matching funds or in-kind donations for the planning process equal to at least 50 percent of its grant award, except that an applicant proposing a project that meets Absolute Priority 2: Promise Neighborhoods in Rural Communities or Absolute Priority 3: Promise Neighborhoods in Tribal Communities must obtain matching funds or in-kind donations equal to at least 25 percent of the grant award.

(b) Implementation Grants. To be eligible for an implementation grant under this competition, an applicant must demonstrate that it has established a commitment from one or more entities in the public or private sector, which may include Federal, State, and local public agencies, philanthropic organizations, private businesses, or individuals, to provide matching funds for the implementation process. An applicant for an implementation grant must obtain matching funds or in-kind donations equal to at least 100 percent of its grant award, except that an applicant proposing a project that meets Absolute Priority 2: Promise Neighborhoods in Rural Communities or Absolute Priority 3: Promise Neighborhoods in Tribal Communities must obtain matching funds or in-kind donations equal to at least 50 percent of the grant award.

Eligible sources of matching include sources of funds used to pay for solutions within the continuum of solutions, such as Head Start programs, initiatives supported by the LEA, or public health services for children in the neighborhood. At least 10 percent of an implementation applicant's total match must be cash or in-kind contributions from the private sector, which may include philanthropic organizations, private businesses, or individuals.

(c) Planning and Implementation Grants. Both planning and implementation applicants must demonstrate a commitment of matching funds in the applications. The applicants must specify the source of the funds or contributions and in the case of a third-party in-kind contribution, a description of how the value was determined for the donated or contributed goods or service. Applicants must demonstrate the match commitment by including letters in their applications explaining the type and quantity of the match commitment with original signatures from the executives of organizations or agencies providing the match. The Secretary may consider decreasing the matching requirement in the most exceptional circumstances, on a case-by-case basis.

An applicant that is unable to meet the matching requirement must include in its application a request to the Secretary to reduce the matching requirement, including the amount of the requested reduction, the total remaining match contribution, and a statement of the basis for the request. An applicant should review the Department's cost-sharing and cost-matching regulations, which include specific limitations in 34 CFR 74.23 applicable to non-profit organizations and institutions of higher education and 34 CFR 80.24 applicable to State, local, and Indian tribal governments, and the Office of Management and Budget (OMB) cost principles regarding donations, capital assets, depreciations and allowable costs. These circulars are available on OMB's Web site at http://www.whitehouse.gov/omb/circulars/index.html.

Proposed Definitions

We propose the following definitions for this program. We may apply one or more of these definitions in any year in which this program is in effect.

Broadband internet access means internet access sufficient to provide community members with the internet available when and where they need it and for the uses they require.

Community of practice means a group of grantees that agrees to interact regularly to solve a persistent problem or improve practice in an area that is important to them and the success of their project. Establishment of communities of practice under Promise Neighborhoods will enable grantees to meet, discuss, and collaborate with each other regarding grantee projects.

Continuum of cradle-through-college-to-career solutions or continuum of solutions means solutions that—

(1) Include programs, policies, practices, services, systems, and supports that result in improving educational and developmental outcomes for children from cradle through college to career;

(2) Are based on the best available evidence, including, where available, strong or moderate evidence (as defined in this notice);

(3) Are linked and integrated seamlessly (as defined in this notice); and

(4) Include both education programs and family and community supports.

Credible comparison group includes a comparison group formed by matching project participants with non-participants based on key characteristics that are thought to be related to outcomes. These characteristics include, but are not limited to: (1) Prior test scores and other measures of academic achievement (preferably the same measures that will be used to assess the outcomes of the project); (2) demographic characteristics, such as age, disability, gender, English proficiency, ethnicity, poverty level, parents' educational attainment, and single- or two-parent family background; (3) the time period in which the two groups are studied (e.g., the two groups are children entering kindergarten in the same year as opposed to sequential years); and (4) methods used to collect outcome data (e.g., the same test of reading skills administered in the same way to both groups).

Developmentally appropriate early learning measures means a range of assessment instruments that are used in ways consistent with the purposes for which they were designed and validated; appropriate for the ages and other characteristics of the children being assessed; designed and validated for use with children whose ages, cultures, languages spoken at home, socioeconomic status, abilities and disabilities, and other characteristics are similar to those of the children with whom the assessments will be used; and used in compliance with the measurement standards set forth by the American Educational Research Association (AERA), the American Psychological Association (APA), and the National Council for Measurement in Education (NCME) in the 1999 Standards for Educational and Psychological Testing.

Education programs means programs that include, but are not limited to—

(1) High-quality early learning programs or services designed to improve outcomes across multiple domains of early learning for young children. Such programs must be specifically intended to align standards, practices, strategies, or activities across as broad an age range as birth through third grade so as to ensure that young children enter kindergarten and progress through the early elementary school grades demonstrating age-appropriate functioning across the multiple domains;

(2) For children in preschool through the 12th grade, programs, policies, and personnel that are linked to improved educational outcomes. The programs, policies, and personnel—

(a) Must include effective teachers and effective principals;

(b) Must include strategies, practices, or programs that encourage and facilitate the evaluation, analysis, and use of student achievement, student growth (as defined in this notice), and other data by educators, families, and other stakeholders to inform decision-making;

(c) Must include college- and career-ready standards, assessments, and practices, including a well-rounded curriculum, instructional practices, strategies, or programs in, at a minimum, core academic subjects as defined in section 9101(11) of the ESEA, that are aligned with high academic content and achievement standards and with high-quality assessments based on those standards; and

(d) May include creating multiple pathways for students to earn regular high school diplomas (e.g., using schools that serve the needs of over-aged, under-credited, or other students with an exceptional need for flexibility regarding when they attend school or the additional supports they require; awarding credit based on demonstrated evidence of student competency; or offering dual-enrollment options); and

(3) Programs that prepare students for college and career success, which may include programs that—

(a) Create and support partnerships with community colleges, four-year colleges, or universities and that help instill a college-going culture in the neighborhood;

(b) Provide dual-enrollment opportunities for secondary students to gain college credit while in high school;

(c) Provide, through relationships with businesses and other organizations, apprenticeship opportunities to students;

(d) Align curricula in the core academic subjects with requirements for industry-recognized certifications or credentials, particularly in high-growth sectors;

(e) Provide access to career and technical education programs so that individuals can attain the skills and industry-recognized certifications or credentials for success in their careers; and

(f) Provide opportunities for all youth (both in and out of school) to achieve academic and employment success by improving educational and skill competencies and providing connections to employers. Such activities may include opportunities for on-going mentoring, supportive services, incentives for recognition and achievement, and opportunities related to leadership, development, decision-making, citizenship, and community service.

Effective school means a school that has—

(1) Significantly closed the achievement gaps between subgroups of students (as identified in section 1111(b)(3)(C)(xiii) of the ESEA) within the school or district; or

(2)(a) Demonstrated success in significantly increasing student academic achievement in the school for all subgroups of students (as identified in section 1111(b)(3)(C)(xiii) of the ESEA) in the school; and (b) made significant improvements in other areas, such as graduation rates (as defined in this notice) or recruitment and placement of effective teachers and effective principals.

Eligible organization means an organization that—

(1) Is representative of the geographic area proposed to be served (as defined in this notice);

(2) Is one of the following:

(a) A nonprofit organization that meets the definition of a nonprofit under 34 CFR 77.1(c), which may include a faith-based nonprofit organization.

(b) An institution of higher education as defined by section 101(a) of the Higher Education Act of 1965, as amended.

(c) An Indian tribe (as defined in this notice);

(3) Currently provides at least one of the solutions from the applicant's proposed continuum of solutions in the geographic area proposed to be served; and

(4) Operates or proposes to work with and involve in carrying out its proposed project, in coordination with the school's LEA, at least one public elementary or secondary school that is located within the identified geographic area that the grant will serve.

Family and community supports means—

(1) Child and youth health programs, such as physical, mental, behavioral, and emotional health programs (e.g., home visiting programs; Early Head Start; programs to improve nutrition and fitness, reduce childhood obesity, and create healthier communities);

(2) Safety programs, such as programs in school and out of school to prevent, control, and reduce crime, violence, drug and alcohol use, and gang activity; programs that address classroom and school-wide behavior and conduct; programs to prevent child abuse and neglect; programs to prevent truancy and reduce and prevent bullying and harassment; and programs to improve the physical and emotional security of the school setting as perceived, experienced, and created by students, staff, and families;

(3) Community stability programs, such as programs that—

(a) Increase the stability of families in communities by expanding access to quality, affordable housing, providing legal support to help families secure clear legal title to their homes, and providing housing counseling or housing placement services;

(b) Provide adult education and employment opportunities and training to improve educational levels, job skills and readiness in order to decrease unemployment, with a goal of increasing family stability;

(c) Improve families' awareness of, access to, and use of a range of social services, if possible at a single location;

(d) Provide unbiased, outcome-focused, and comprehensive financial education, inside and outside the classroom and at every life stage;

(e) Increase access to traditional financial institutions (e.g., banks and credit unions) rather than alternative financial institutions (e.g., check cashers and payday lenders);

(f) Help families increase their financial literacy, financial assets, and savings; and

(g) Help families access transportation to education and employment opportunities;

(4) Family and community engagement programs, such as family literacy programs and programs that provide adult education and training and opportunities for family members and other members of the community to support student learning and establish high expectations for student educational achievement; mentorship programs that create positive relationships between children and adults; and programs that provide for the use of such community resources as libraries, museums, and local businesses to support improved student educational outcomes; and

(5) 21st century learning tools, such as technology (e.g., computers and mobile phones) used by students in the classroom and in the community to support their education. This includes programs that help students use the tools to develop knowledge and skills in such areas as reading and writing, mathematics, research, critical thinking, communication, creativity, innovation, and entrepreneurship.

Graduation rate means the four-year or extended-year adjusted cohort graduation rate as defined by 34 CFR 200.19(b)(1).

Note: This definition is not meant to prevent a grantee from also collecting information about the reasons why students do not graduate from the target high school, e.g., dropping out or moving outside of the school district for non-academic or academic reasons.

Increased learning time means using a longer school day, week, or year to significantly increase the total number of school hours. It is used to redesign the school's program in a manner that includes additional time for (a) instruction in core academic subjects as defined in section 9101(11) of the ESEA; (b) instruction in other subjects and enrichment activities that contribute to a well-rounded education, including, for example, physical education, service learning, and experiential and work-based learning opportunities that are provided by partnering, as appropriate, with other organizations; and (c) teachers to collaborate, plan, and engage in professional development within and across grades and subjects.

Indian tribe means any Indian or Alaska Native tribe, band, nation, pueblo, village or community that the Secretary of the Interior acknowledges to exist as an Indian tribe, 25 U.S.C. 479a and 479a-1.

Indicators of need means currently available data that describe—

(1) Education need, which means—

(a) All or a portion of the neighborhood includes or is within the attendance zone of a low-performing school that is a high school, especially one in which the graduation rate (as defined in this notice) is less than 60 percent or a school that can be characterized as low-performing based on another proxy indicator, such as students' on-time progression from grade to grade; and

(b) Other indicators, such as significant achievement gaps between subgroups of students (as identified in section 1111(b)(3)(C)(xiii) of the ESEA) within a school or LEA, high teacher and principal turnover, or high student absenteeism; and

(2) Family and community support need, which means—

(a) Percentages of children with preventable chronic health conditions (e.g., asthma, poor nutrition, dental problems, obesity) or avoidable developmental delays;

(b) Immunization rates;

(c) Rates of crime, including violent crime;

(d) Student mobility rates;

(e) Teenage birth rates;

(f) Percentage of children in single-parent or no-parent families;

(g) Rates of vacant or substandard homes, including distressed public and assisted housing; or

(h) Percentage of the residents living at or below the Federal poverty threshold.

Linked and integrated seamlessly, with respect to the continuum of solutions, means solutions that have common outcomes, focus on similar milestones, support transitional time periods (e.g., the beginning of kindergarten, the middle grades, or graduation from high school) along the cradle-through-college-to-career continuum, and address time and resource gaps that create obstacles for students in making academic progress.

Low-performing schools means schools receiving assistance through title I of the Elementary and Secondary Education Act of 1965, as amended (ESEA), that are in corrective action or restructuring in the State, as determined under section 1116 of the ESEA, and the secondary schools (both middle and high schools) in the State that are equally as low-achieving as these Title I schools and are eligible for, but do not receive, Title I funds.

Moderate evidence means evidence from previous studies with designs that can support causal conclusions (i.e., studies with high internal validity) but have limited generalizability (i.e., moderate external validity) or from studies with high external validity but moderate internal validity.

Multiple domains of early learning means physical well-being and motor development; social-emotional development; approaches toward learning, which refers to the inclinations, dispositions, or styles, rather than skills, that reflect ways that children become involved in learning and develop their inclinations to pursue learning; language and literacy development, including emergent literacy; and cognition and general knowledge, which refers to thinking and problem-solving as well as knowledge about particular objects and the way the world works. Cognition and general knowledge include mathematical and scientific knowledge, abstract thought, and imagination.

Neighborhood assets means—

(1) Developmental assets that allow residents to attain the skills needed to be successful in all aspects of daily life (e.g., educational institutions, early learning centers, and health resources);

(2) Commercial assets that are associated with production, employment, transactions, and sales (e.g., labor force and retail establishments);

(3) Recreational assets that create value in a neighborhood beyond work and education (e.g., parks, open space, community gardens, and arts organizations);

(4) Physical assets that are associated with the built environment and physical infrastructure (e.g., housing, commercial buildings, and roads); and

(5) Social assets that establish well-functioning social interactions (e.g., public safety and community engagement).

Persistently lowest-achieving school means, as determined by the State—

(1) Any school receiving assistance through Title I that is in improvement, corrective action, or restructuring and that—

(a) Is among the lowest-achieving five percent of Title I schools in improvement, corrective action, or restructuring or the lowest-achieving five Title I schools in improvement, corrective action, or restructuring in the State, whichever number of schools is greater; or

(b) Is a high school that has had a graduation rate that is less than 60 percent over a number of years; and

(2) Any secondary school that is eligible for, but does not receive, Title I funds that—

(a) Is among the lowest-achieving five percent of secondary schools or the lowest-achieving five secondary schools in the State that are eligible for, but do not receive, Title I funds, whichever number of schools is greater; or

(b) Is a high school that has had a graduation rate that is less than 60 percent over a number of years.

Program indicators are indicators that the Department will use only for research and evaluation purposes and for which an applicant is not required to propose solutions.

Project indicators are indicators for which an applicant proposes solutions intended to result in progress on the indicators.

Public officials means elected officials (e.g., council members, aldermen and women, commissioners, State legislators, Congressional representatives, members of the school board), appointed officials (e.g., members of a planning or zoning commission, or of any other regulatory or advisory board or commission), or individuals who are not necessarily public officials, but who have been appointed by a public official to serve on the Promise Neighborhoods governing board or advisory board.

Rapid-time, in reference to reporting and availability of locally-collected data, means that data are available quickly enough to inform current lessons, instruction, and related education programs and family and community supports.

Representative of the geographic area proposed to be served means that residents of the geographic area proposed to be served have an active role in decision-making and that at least one-third of the eligible entity's governing board or advisory board is made up of—

(1) Residents who live in the geographic area proposed to be served, which may include residents who are representative of the ethnic and racial composition of the neighborhood's residents and the languages they speak;

(2) Residents of the city or county in which the neighborhood is located but who live outside the geographic area proposed to be served, and who are low-income (which means earning less than 80 percent of the area's median income as published by the Department of Housing and Urban Development);

(3) Public officials (as defined in this notice) who serve the geographic area proposed to be served (although not more than one-half of the governing board or advisory board may be made up of public officials); or

(4) Some combination of individuals from the three groups listed in paragraphs (1), (2), and (3) of this definition.

Rural community means a neighborhood that—

(1) Is served by an LEA that is currently eligible under the Small Rural School Achievement (SRSA) program or the Rural and Low-Income School (RLIS) program authorized under Title VI, Part B of the ESEA. Applicants may determine whether a particular LEA is eligible for these programs by referring to information on the following Department Web sites. For the SRSA program: http://www.ed.gov/programs/reapsrsa/eligible10/index.html.

For the RLIS program: http://www.ed.gov/programs/reaprlisp/eligible10/index.html; or

(2) Includes only schools designated with a school locale code of 42 or 43. Applicants may determine school locale codes by referring to the following Department Web site: http://nces.ed.gov/ccd/schoolsearch/.

School climate needs assessment means an evaluation tool that measures the extent to which the school setting promotes or inhibits academic performance by collecting perception data from individuals, which could include students, staff, or families.

Segmentation analysis means the process of grouping and analyzing data from children and families in the geographic area proposed to be served according to indicators of need (as defined in this notice) or other relevant indicators.

Note: The analysis is intended to allow grantees to differentiate and more effectively target interventions based on what they learn about the needs of different populations in the geographic area.

Strong evidence means evidence from studies with designs that can support causal conclusions (i.e., studies with high internal validity), and studies that, in total, include enough of the range of participants and settings to support scaling up to the State, regional, or national level (i.e., studies with high external validity).

Student achievement means—

(1) For tested grades and subjects:

(a) A student's score on the State's assessments under the ESEA; and, as appropriate,

(b) Other measures of student learning, such as those described in paragraph (2) of this definition, provided they are rigorous and comparable across classrooms and programs.

(2) For non-tested grades and subjects: alternative measures of student learning and performance, such as student scores on pre-tests and end-of-course tests; student performance on English language proficiency assessments; and other measures of student achievement that are rigorous and comparable across classrooms.

Student growth means the change in achievement data for an individual student between two or more points in time. Growth may also include other measures that are rigorous and comparable across classrooms.

Student mobility rate is calculated by dividing the total number of new student entries and withdrawals at a school, from the day after the first official enrollment number is collected through the end of the academic year, by the first official enrollment number of the academic year.

Note: This definition is not meant to limit a grantee from also collecting information about why students enter or withdraw from the school, e.g., transferring to charter schools, moving outside of the school district for non-academic or academic reasons.

Theory of action means an organization's strategy regarding how, considering its capacity and resources, it will take the necessary steps and measures to accomplish its desired results.

Theory of change means an organization's beliefs about how its inputs, and early and intermediate outcomes, relate to accomplishing its long-term desired results.

Proposed Selection Criteria

We propose the following selection criteria for evaluating a planning and implementation grant application under the Promise Neighborhoods program. These criteria are designed to align with the absolute priority for planning and implementation grants. Thus, the “need for project” criterion aligns with the absolute priority requirement that applicants describe the need in the neighborhood. The “quality of project design” and “quality of project services” criteria align with the absolute priority requirement that applicants describe a strategy to build a continuum of solutions with strong schools at the center. The “quality of the management plan” criterion aligns with the absolute priority requirement that applicants describe their capacity to achieve results.

In the notice inviting applications, the application package, or both, we will announce the maximum possible points assigned to each criterion. We may apply one or more of these criteria in any year in which this program is in effect.

Proposed Planning Grants Selection Criteria

The proposed selection criteria for planning grant applicants are as follows:

(1) Need for project.

(a) The Secretary considers the need for the proposed project.

(b) In determining the need for the proposed project, the Secretary considers—

(i) The magnitude or severity of the problems to be addressed by the proposed project as described by indicators of need and other relevant indicators; and

(ii) The extent to which the geographically defined area has been described.

(2) Quality of the project design.

(a) The Secretary considers the quality of the design of the proposed project.

(b) In determining the quality of the design of the proposed project, the Secretary considers—

(i) The extent to which the continuum of solutions will be aligned with an ambitious, rigorous, and comprehensive strategy for improvement of schools in the neighborhood;

(ii) The extent to which the applicant describes a proposal to plan to create a complete continuum of solutions, including early learning through grade 12, college- and career-readiness, and family and community supports, without time and resource gaps that will prepare all children in the neighborhood to attain an excellent education and successfully transition to college and a career; and

(iii) The extent to which solutions leverage existing neighborhood assets and coordinate with other efforts, including programs supported by Federal, State, local, and private funds.

(3) Quality of project services.

(a) The Secretary considers the quality of the services to be provided by the proposed project.

(b) In determining the quality of the project services, the Secretary considers—

(i) The extent to which the applicant describes how the needs assessment and segmentation analysis, including identifying and describing indicators, will be used during the planning phase to determine each solution within the continuum; and

(ii) The extent to which the applicant describes how it will determine that solutions are based on the best available evidence including, where available, strong or moderate evidence, and ensure that solutions drive results and lead to changes on indicators.

(4) Quality of the management plan.

(a) The Secretary considers the quality of the management plan for the proposed project.

(b) In determining the quality of the management plan for the proposed project, the Secretary considers the experience, lessons learned, and proposal to build capacity of the applicant's management team and project director in all of the following areas—

(i) Working with the neighborhood and its residents; the schools described in paragraph (2)(b) of Absolute Priority 1; the LEA in which those schools are located; Federal, State, and local government leaders; and other service providers;

(ii) Collecting, analyzing, and using data for decision-making, learning, continuous improvement, and accountability;

(iii) Creating formal and informal partnerships, including the alignment of the visions, theories of action, and theories of change described in its memorandum of understanding; and

(iv) Integrating funding streams from multiple public and private sources, including its proposal to leverage and integrate high-quality programs in the neighborhood into the continuum of solutions.

Proposed Implementation Grants Selection Criteria

The proposed selection criteria for implementation grant applicants are as follows:

(1) Need for project.

(a) The Secretary considers the need for the proposed project.

(b) In determining the need for the proposed project, the Secretary considers—

(i) The magnitude or severity of the problems to be addressed by the proposed project as described by indicators of need and other relevant indicators identified in part by the needs assessment and segmentation analysis; and

(ii) The extent to which the geographically defined area has been described.

(2) Quality of the project design.

(a) The Secretary considers the quality of the design of the proposed project.

(b) In determining the quality of the design of the proposed project, the Secretary considers the following factors:

(i) The extent to which the continuum of solutions is aligned with an ambitious, rigorous, and comprehensive strategy for improvement of schools in the neighborhood.

(ii) The extent to which the applicant describes an implementation plan to create a complete continuum of solutions, including early learning through grade 12, college- and career-readiness, and family and community supports, without time and resource gaps, that will prepare all children in the neighborhood to attain an excellent education and successfully transition to college and a career.

(iii) The extent to which the applicant identifies existing neighborhood assets and programs supported by Federal, State, local, and private funds that will be used to implement a continuum of solutions.

(iv) The extent to which the applicant describes its implementation plan, including clear, annual goals for improving systems and leveraging resources as described in paragraph (2) of Absolute Priority 1.

(3) Quality of project services.

(a) The Secretary considers the quality of the services to be provided by the proposed project.

(b) In determining the quality of the project services, the Secretary considers—

(i) The extent to which the applicant describes how the needs assessment and segmentation analysis, including identifying and describing indicators, were used to determine each solution within the continuum;

(ii) The extent to which the applicant documents that proposed solutions are based on the best available evidence including, where available, strong or moderate evidence; and

(iii) The extent to which the applicant describes clear, annual goals for changes on indicators.

(4) Quality of the management plan.

(a) The Secretary considers the quality of the management plan for the proposed project.

(b) In determining the quality of the management plan for the proposed project, the Secretary considers the experience, lessons learned, and proposal to build capacity of the applicant's management team and project director in all of the following areas—

(i) Working with the neighborhood and its residents; the schools described in paragraph (2)(b) of Absolute Priority 1; the LEA in which those schools are located; Federal, State, and local government leaders; and other service providers;

(ii) Collecting, analyzing, and using data for decision-making, learning, continuous improvement, and accountability, including whether the applicant has a plan to build, adapt, or expand a longitudinal data system that integrates student-level data from multiple sources in order to measure progress;

(iii) Creating formal and informal partnerships, including the alignment of the visions, theories of action, and theories of change described in its memorandum of understanding; and

(iv) Integrating funding streams from multiple public and private sources, including its proposal to leverage and integrate high-quality programs in the neighborhood into the continuum of solutions.

Final Priority, Requirements, Definitions, and Selection Criteria

We will announce the final priorities, requirements, definitions, and selection criteria in a notice in the Federal Register. We will determine the final priorities, requirements, definitions, and selection criteria after considering responses to this notice and other information available to the Department. This notice does not preclude us from proposing additional priorities, definitions, or selection criteria, subject to meeting applicable rulemaking requirements.

Note: This notice does not solicit applications. In any year in which we choose to use one or more of these proposed priorities, requirements, definitions, and selection criteria, we invite applications through a notice in the Federal Register.

Executive Order 12866: Under Executive Order 12866, the Secretary must determine whether this regulatory action is “significant” and therefore subject to the requirements of the Executive Order and subject to review by the Office of Management and Budget (OMB). Section 3(f) of Executive Order 12866 defines a “significant regulatory action” as an action likely to result in a rule that may: (1) Have an annual effect on the economy of $100 million or more, or adversely affect a sector of the economy, productivity, competition, jobs, the environment, public health or safety, or State, local, or tribal governments or communities in a material way (also referred to as an “economically significant” rule); (2) create serious inconsistency or otherwise interfere with an action taken or planned by another agency; (3) materially alter the budgetary impacts of entitlement grants, user fees, or loan programs or the rights and obligations of recipients thereof; or (4) raise novel legal or policy issues arising out of legal mandates, the President's priorities, or the principles set forth in the Executive Order. The Secretary has determined that this regulatory action is significant under section 3(f) of the Executive order.

This notice has been reviewed in accordance with Executive Order 12866. Under the terms of the order, we have assessed the potential costs and benefits of this proposed regulatory action.

The potential costs associated with this proposed regulatory action are those resulting from statutory requirements and those we have determined as necessary for administering this program effectively and efficiently.

In assessing the potential costs and benefits—both quantitative and qualitative—of this proposed regulatory action, we have determined that the benefits of the proposed priority, requirements, definitions, and selection criteria justify the costs.

We have determined, also, that this proposed regulatory action does not unduly interfere with State, local, and tribal governments in the exercise of their governmental functions.

Intergovernmental Review: This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program. Accessible Format: Individuals with disabilities can obtain this document in an accessible format (e.g., braille, large print, audiotape, or computer diskette) on request to the contact person listed under FOR FURTHER INFORMATION CONTACT.

Electronic Access to This Document: You can view this document, as well as all other documents of this Department published in the Federal Register, in text or Adobe Portable Document Format (PDF) on the Internet at the following site: http://www.ed.gov/news/fedregister. To use PDF you must have Adobe Acrobat Reader, which is available free at this site.

Note: The official version of this document is the document published in the Federal Register. Free Internet access to the official edition of the Federal Register and the Code of Federal Regulations is available via the Federal Digital System at http://www.gpo.gov/fdsys.

Dated: March 7, 2011.
James H. Shelton, III,
Assistant Deputy Secretary for Innovation and Improvement.

[FR Doc. 2011-5543 Filed 3-9-11; 8:45 am]

BILLING CODE 4000-01-P